DEPARTMENT OF ENERGY

Federal Energy Regulatory Commission

Combined Notice of Filings

Take notice that the Commission has received the following Natural Gas Pipeline Rate and Refund Report filings:

Filings Instituting Proceedings

Docket Number: PR19-48-000.

Applicants: Kinder Morgan Keystone Gas Storage LLC.

Description: Tariff filing per 284.123(b), (e)+(g): Operating Statement Update (Payments and Loaning Overrun Rate) to be effective 5/6/2019.

Filed Date: 3/6/19.

Accession Number: 201903065192.

Comments Due: 5 p.m. ET 3/27/19.

284.123(g) Protests Due: 5 p.m. ET 5/6/19.

Docket Number: PR19-49-000.

Applicants: Columbia Gas of Ohio, Inc.

Description: Tariff filing per 284.123(b), (e)/: COH Rates effective March 1 2019 to be effective 3/1/2019.

Filed Date: 3/7/19.

Accession Number: 201903075059.

Comments/Protests Due: 5 p.m. ET 3/28/19.

Docket Number: PR19-50-000.

Applicants: Banquete Hub LLC.

Description: Tariff filing per 284.123(b), (e)/: Revised Compliance Filing SOC for Banquete Hub LLC to be effective 9/19/2018.

Filed Date: 3/7/19.

Accession Number: 201903075078.

Comments/Protests Due: 5 p.m. ET 3/28/19.

Docket Numbers: RP18-536-001.

Applicants: American Midstream (Midla), LLC.

Description: Report Filing: Annual Unaccounted for Gas Retention Percentage Filing.

Filed Date: 3/1/19.

Accession Number: 20190301-5022.

Comments Due: 5 p.m. ET 3/15/19.

Docket Numbers: RP19-813-000.

Applicants: Midcontinent Express Pipeline LLC.

Description: Compliance filing Annual Report of Operational Purchases and Sales 2019.

Filed Date: 3/7/19.

Accession Number: 20190307-5030.

Comments Due: 5 p.m. ET 3/19/19.

Docket Numbers: RP19-814-000.

Applicants: Millennium Pipeline Company, LLC.

Description: § 4(d) Rate Filing: Negotiated Rate Svc Agmts—ESU to be effective 3/11/2019.

Filed Date: 3/7/19.

Accession Number: 20190307-5123.

Comments Due: 5 p.m. ET 3/19/19.

Docket Numbers: RP19-815-000.

Applicants: Nautilus Pipeline Company, L.L.C.

Description: § 4(d) Rate Filing: Nautilus—Processing tariff changes to be effective 4/8/2019.

Filed Date: 3/8/19.

Accession Number: 20190308-5064.

Comments Due: 5 p.m. ET 3/20/19.

Docket Numbers: RP19-816-000.

Applicants: Portland Natural Gas Transmission System.

Description: § 4(d) Rate Filing: Bay State Neg Rate Amendment to be effective 3/10/2019.

Filed Date: 3/8/19.

Accession Number: 20190308-5178.

Comments Due: 5 p.m. ET 3/20/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 11, 2019.
Nathaniel J. Davis, Sr.,
Deputy Secretary.

[FR Doc. 2019-04841 Filed 3-14-19; 8:45 am]

BILLING CODE 6717-01-P